DEPARTMENT OF HOMELAND SECURITY

Coast Guard

33 CFR Part 165

[Docket Number USCG-2024-0266]

RIN 1625-AA87

Security Zone; 2024 NFL Draft, Detroit River, Detroit, MI

AGENCY: Coast Guard, Department of Homeland Security (DHS).

ACTION: Temporary final rule.

SUMMARY: The Coast Guard is establishing a temporary security zone on the Detroit River, in the vicinity of Detroit, MI. This zone is intended to restrict vessels from a portion of the Detroit River for the security of the spectators and participance of the 2024 NFL Draft from the public, and surrounding waterways from terrorist acts, sabotage or other subversive acts, accidents, or other causes of a similar nature. Persons and vessels are prohibited from entering into, transiting through, or anchoring within the security zone unless authorized by the Captain of the Port Detroit (COTP), or a designated representative. This temporary security zone is necessary to protect national security.

DATES: This regulation is effective from 8 a.m. on April 25, 2024, through 6 p.m. April 27, 2024, and will be enforced during event times.

ADDRESSES: To view documents mentioned in this preamble as being available in the docket, go to https://www.regulations.gov, type USCG-2024-0266 in the “SEARCH” box and click “SEARCH.” Click on Open Docket Folder on the line associated with this rule.

FOR FURTHER INFORMATION CONTACT: If you have questions about this rule, call or email Tracy Girard, Waterways Division, Sector Detroit, Coast Guard; telephone (313) 568-9564, email tracy.m.girard@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because the Coast Guard was notified with insufficient time to accommodate the comment period. Delaying the effective date of this rule to wait for the comment period to run would be impracticable and contrary to the public interest because it would prevent the COTP Detroit from keeping the public and public figures safe from known and unknown threats.

Under 5 U.S.C. 553(d)(3), the Coast Guard finds that good cause exists for making this rule effective less than 30 days after publication in the Federal Register. Delaying the effective date of this rule would be impracticable because immediate action is needed to protect the public and participants from known and unknown threats.

III. Legal Authority and Need for Rule

The Coast Guard is issuing this rule under authority in 46 U.S.C. 70034, 70051; 33 CFR 1.05-1, 6.04-1, 6.04-6, and 160.5; Department of Homeland Security Delegation No. 0170.1. The COTP has determined that potential risks are associated with the event. These hazards include potential security threats, violent or disruptive public disorder, delivery of a weapon of mass destruction, launch of a stand-off attack weapon, or delivery of an armed assault force. This rule is needed to protect personnel, vessels, and the marine environment in the navigable waters within the security zone throughout the duration of the event.

IV. Discussion of the Rule

This rule establishes a security zone that will be in effect from 8 a.m. on April 25, 2024, through 6 p.m. on April 27, 2024, and enforced during event times. The security zone will encompass all U.S. navigable waters of the Detroit River that are within the following boundary to the shore: Starting from a point at 42°19′32.88″ North Latitude and 083°2′45.48″ West Longitude and proceeding South-Southeast until intersecting a point at position 42°19′27.06″ North Latitude and 083°2′43.56″ West Longitude; thence proceeding East-Northeast until intersecting a point at 42°19′31.26″ North Latitude and 083°2′28.8″ West Longitude; thence proceeding North-Northwest until intersecting a point at position 42°19′37.38″ North Latitude and 083°2′31.26″ West Longitude.

The duration of the zone is intended to protect the spectators and participants from potential risks in these navigable waters during the event. Entry into, transiting, or anchoring within the security zone is prohibited unless authorized by the COTP, Sector Detroit, or a designated representative. The COTP or his designated representative may be contacted via VHF Channel 16.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the size, location, and duration of the security zone. The majority of vessel traffic will be able to safely transit prior to and immediately after the security zone enforcement period, which will impact only portions of the Detroit River in Detroit, MI for a period of 12 hours per day. Vessels will be able to transit around the security zone on the Detroit River. Under certain conditions, moreover, vessels may still transit through the security zone only when permitted by the COTP.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the security zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a security zone lasting 12 hours per day that will prohibit entry within all U.S. navigable waters of the Detroit River within a Detroit River that are within the following boundary to the shore: Starting from a point at 42°19′32.88″ North Latitude and 083°2′45.48″ West Longitude and proceeding South-Southeast until intersecting a point at position 42°19′27.06″ North Latitude and 083°2′43.56″ West Longitude; thence proceeding East-Northeast until intersecting a point at 42°19′31.26″ North Latitude and 083°2′28.8″ West Longitude; thence proceeding North-Northwest until intersecting a point at position 42°19′37.38″ North Latitude and 083°2′31.26″ West Longitude. It is categorically excluded from further review under paragraph L60(a) of Appendix A, Table 1 of DHS Instruction Manual 023-01-001-01, Rev. 01.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T09-0266 to read as follows:

§ 165.T09-0266 Security Zone; 2024 NFL Draft, Detroit River, Detroit, MI.

(a) Location. The following area is the temporary security zone: All U.S. navigable waters of the Detroit River that are within the following boundary to the shore: Starting from a point at 42°19′32.88″ North Latitude and 083°2′45.48″ West Longitude and proceeding South-Southeast until intersecting a point at position 42°19′27.06″ North Latitude and 083°2′43.56″ West Longitude; thence proceeding East-Northeast until intersecting a point at 42°19′31.26″ North Latitude and 083°2′28.8″ West Longitude; thence proceeding North-Northwest until intersecting a point at position 42°19′37.38″ North Latitude and 083°2′31.26″ West Longitude.

(b) Enforcement period. This section is in effect from 8 a.m. on April 25, 2024, through 6 p.m. April 27, 2024, and will be enforced during event times.

(c) Regulations. (1) In accordance with the general regulations in § 165.33, entry into, transiting or anchoring within the security zone in paragraph (a) of this section is prohibited unless authorized by the Captain of the Port Detroit (COTP) or his designated representative.

(2) The security zone is closed to all vessel traffic, except as may be permitted by the COTP Detroit or his designated representative.

(3) The “designated representative” of the COTP is any Coast Guard commissioned, warrant, or petty officer who has been designated by the COTP to act on his behalf. The designated representative of the COTP will be aboard either a Coast Guard or Coast Guard Auxiliary vessel. The COTP or his designated representative may be contacted via VHF Channel 16.

(4) Vessel operators desiring to enter or operate within the security zone shall contact the COTP or his designated representative to obtain permission to do so. Vessel operators given permission to enter or operate in the security zone must comply with all directions given to them by the COTP or a designated representative.

Dated: April 1, 2024.
Richard P. Armstrong,
Captain, U.S. Coast Guard, Captain of the Port Detroit.

[FR Doc. 2024-08303 Filed 4-17-24; 8:45 am]

BILLING CODE 9110-04-P